DEPARTMENT OF ENERGY

Federal Energy Regulatory Commission

[Docket No. RP06-221-000]

Duke Energy Marketing America, LLC, Gas Transmission Northwest Corporation, El Paso Natural Gas Company, Northwest Pipeline Corporation, Questar Southern Trails Pipeline Company and Transwestern Pipeline Company, LLC; Notice of Joint Petition for Expedited Grant of Limited Waivers

March 14, 2006.

Take notice that on February 15, 2006, as clarified March 10, 2006, pursuant to Rule 207 of the Commission's Rules of Practice and Procedure, Duke Energy Marketing America, LLC (DEMA), Gas Transmission Northwest Corporation (GTN), El Paso Natural Gas Company (El Paso), Northwest Pipeline Corporation (Northwest), Questar Southern Trails Pipeline Company (Questar Southern Trails), and Transwestern Pipeline Company, LLC (Transwestern) (collectively, Petitioners) tendered for filing a Joint Petition for Expedited Grant of Limited Waivers.

DEMA, GTN, El Paso, Northwest, and Transwestern jointly petition the Commission for a grant of a limited waiver, to the extent required, of (i) the Commission's Order No. 636-A policy regarding the “tying” of non-jurisdictional gas transmission and gas commodity contracts to released transportation capacity, (ii) the applicable capacity release tariff provisions of the Petitioners, and (iii) any and all other waivers deemed necessary by the Commission.

The Petitioners state that the requested waivers will enable DEMA to effectuate the permanent transfer of two portfolios of DEMA assets consisting of Commission-regulated transportation capacity, associated upstream Canadian pipeline capacity, and various related gas supply and delivery contracts to DEMA's Prearranged Replacement Shipper or to some other third-party replacement shipper who may prevail in the capacity release bidding process. Petitioners further request expedited action on the requested waivers, so that the transportation releases may be made effective no later than May 1, 2006.

The Petitioners state that copies of their filings have been served on their jurisdictional customers and upon affected state regulatory commissions.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on March 20, 2006.

Magalie R. Salas,
Secretary.

[FR Doc. E6-4046 Filed 3-20-06; 8:45 am]

BILLING CODE 6717-01-P